DEPARTMENT OF COMMERCE

Foreign-Trade Zones Board

(Docket T-1-2009)

Foreign-Trade Zone 134 Chattanooga, TN, Application for Temporary/Interim Manufacturing Authority, Volkswagen Group of America Chattanooga Operations, LLC (Motor Vehicles), Chattanooga, TN

An application has been submitted to the Executive Secretary of the Foreign-Trade Zones Board (the Board) by the Chattanooga Chamber Foundation, grantee of FTZ 134, requesting temporary/interim manufacturing (T/IM) authority within FTZ 134 at the Volkswagen Group of America Chattanooga Operations, LLC (VGACO) facility in Chattanooga, Tennessee. The application was filed on July 10, 2009.

The VGACO facility (approx. 2,000 employees, 1,187 acres, 2.1 million sq.ft., 150,000 unit capacity) is located at 7351 Enterprise South Boulevard within the Enterprise South Industrial Park in Chattanooga (Hamilton County), Tennessee (Site 3). Under T/IM procedures, the company has requested authority to produce light-duty passenger vehicles (sedans, sport utility vehicles, minivans) (HTSUS 8703.23, 8703.24, 2.5%). Foreign components that would be used in production (representing about 25% of total material inputs) include: plastic tubes/pipes/hoses (3917.31, 3917.40), plastic sheets/strips/plates (3919.90, 3921.90), rubber tubes/hoses (4009.11), tires (4011.20), gaskets/washers/o-rings (4016.93, 4016.99), safety glass (7007.11, 7007.21), mirrors (7009.10), tube fittings (7307.22, 7307.99), fasteners (7318.14), locks/keys (8301.20, 8301.40), engines (8407.34), engine parts (8409.91), pumps (8413.30), valves (8481.80), and bumpers (8708.10) (duty rates: free 6.5%). T/IM authority could be granted for a period of up to two years.

FTZ procedures could exempt VGACO from customs duty payments on the foreign components used in export production. The company anticipates that some 20 percent of the plant's shipments will be exported. On its domestic sales, VGACO would be able to choose the duty rate that applies to finished passenger vehicles (2.5%) for the foreign inputs noted above. Certain logistical/supply chain management savings would also be realized through FTZ procedures. Customs duties also could possibly be deferred or reduced on foreign status production equipment. The application indicates that the savings from FTZ procedures would help improve the facility's international competitiveness.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is August 17, 2009.

A copy of the application will be available for public inspection at the Office of the Foreign-Trade Zones Board's Executive Secretary at the address listed above, and in the “Reading Room” section of the Board's website, which is accessible via www.trade.gov/ftz. For further information, contact Pierre Duy at pierre_duy@ita.doc.gov or (202) 482-1378.

Dated: July 10, 2009.
Andrew McGilvray,
Executive Secretary.

[FR Doc. E9-17075 Filed 7-16-09; 8:45 am]

BILLING CODE 3510-DS-S